DEPARTMENT OF TRANSPORTATION

Federal Aviation Administration

14 CFR Part 39

[Docket No. 2003-NM-69-AD]

RIN 2120-AA64

Airworthiness Directives; McDonnell Douglas Model MD-11 and -11F Airplanes

AGENCY: Federal Aviation Administration, DOT.

ACTION: Notice of proposed rulemaking (NPRM).

SUMMARY: This document proposes the supersedure of an existing airworthiness directive (AD), applicable to certain McDonnell Douglas Model MD-11 and MD-11F airplanes, that currently requires replacing terminal strips and supports above the main cabin area and avionics compartment with new strips and supports, as applicable. That AD also requires performing an inspection to detect arcing damage of the surrounding structure of the terminal strips and electrical cables in the avionics compartment, and repairing or replacing any damaged component with a new component. This action would expand the applicability of the existing AD to include additional airplanes. For certain airplanes, this action also would require replacement of the terminal board for the applicable item numbers in the aft passenger compartment. The actions specified by the proposed AD are intended to prevent electrical arcing caused by power feeder cable terminal lugs grounding against terminal strip support brackets, which could result in smoke and fire in the main cabin or avionics compartment. This action is intended to address the identified unsafe condition.

DATES: Comments must be received by July 12, 2004.

ADDRESSES: Submit comments in triplicate to the Federal Aviation Administration (FAA), Transport Airplane Directorate, ANM-114, Attention: Rules Docket No. 2003-NM-69-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-69-AD” in the subject line and need not be submitted in triplicate. Comments sent via the Internet as attached electronic files must be formatted in Microsoft Word 97 or 2000 or ASCII text.

The service information referenced in the proposed rule may be obtained from Boeing Commercial Airplanes, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-69-AD.” The postcard will be date stamped and returned to the commenter.

Availability of NPRMs

Any person may obtain a copy of this NPRM by submitting a request to the FAA, Transport Airplane Directorate, ANM-114, Attention: Rules Docket No. 2003-NM-69-AD, 1601 Lind Avenue, SW., Renton, Washington 98055-4056.

Discussion

On August 23, 2002, the FAA issued AD 2002-14-09, amendment 39-12809 (67 FR 47647, July 19, 2002), applicable to certain McDonnell Douglas Model MD-11 and -11F airplanes, to require replacing terminal strips and supports above the main cabin area and avionics compartment with new strips and supports, as applicable. That AD also requires performing an inspection to detect arcing damage of the surrounding structure of the terminal strips and electrical cables in the avionics compartment, and repairing or replacing any damaged component with a new component. That action was prompted by reports of arcing between the power feeder cables and support brackets of the terminal strips on airplanes previously modified per the existing AD. The requirements of that AD are intended to prevent electrical arcing caused by power feeder cable terminal lugs grounding against terminal strip support brackets, which could result in smoke and fire in the main cabin or avionics compartment.

Actions Since Issuance of Previous Rule

Since the issuance of that AD, the airplane manufacturer has informed the FAA that it inadvertently omitted airplanes having manufacturer's fuselage number (MSN) 0585 through 0605 inclusive from the effectivity listing of McDonnell Douglas Alert Service Bulletin MD11-24A178, Revision 01, dated December 17, 2001 (which was referenced in AD 2002-14-09 as an appropriate source of service information for accomplishing the required actions). We have determined that these additional airplanes are subject to the unsafe condition identified in that AD.

In addition, after consulting with the airplane manufacturer, we have determined that the replacement required by paragraph (a) of AD 2002-14-09 (reference McDonnell Douglas Alert Service Bulletin MD11-24A150, dated March 25, 1999) does not adequately preclude arcing between the power feeder cables and terminal strip support brackets. That action replaced one problematic terminal strip in the main cabin with two three-studded terminal strips in one location (applicable to airplanes having manufacturer's fuselage numbers 0585 and subsequent). The airplane manufacturer has developed a six-studded terminal strip that provides increased clearance to further minimize the possibility of chafing. This new, improved terminal strip would replace all three-studded terminal strips in certain locations of the main cabin. Because the six-studded terminal strips were not installed on airplanes during production, additional airplanes beyond those with three-studded terminal strips are subject to this new replacement.

Explanation of Relevant Service Information

We have reviewed and approved Revision 02 of Boeing Alert Service Bulletin MD11-24A178, dated March 11, 2003, which revises the effectivity of Revision 01 of the service bulletin by adding 21 additional manufacturer's serial numbers (MSN). The replacement, inspection, and corrective actions if necessary, specified in Revision 02 are essentially identical to those described in Revision 01 of the service bulletin.

We have also reviewed and approved McDonnell Douglas Alert Service Bulletin MD11-24A177, dated July 18, 2003, and have reviewed Boeing Service Bulletin Information Notice MD11-24A177 IN 01, dated August 7, 2003. The service bulletin describes procedures for replacement of the terminal board for the applicable item numbers in the aft passenger compartment. The information notice revises service kits numbers specified in paragraph 2.B., “Post-Warranty” of this service bulletin.

Accomplishment of the actions specified in the applicable service bulletins is intended to adequately address the identified unsafe condition.

Explanation of Requirements of Proposed Rule

Since an unsafe condition has been identified that is likely to exist or develop on other products of this same type design, the proposed AD would supersede AD 2002-14-09 to continue to require replacement of terminal strips in the avionics compartment with new strips. The proposed AD also would continue to require an inspection to detect arcing damage of the surrounding structure of the terminal strips and electrical cables in the avionics compartment, and repair or replacement of any damaged component with a new component. In addition, the proposed AD would expand the applicability of the existing AD to include additional airplanes. For certain airplanes, the proposed AD also would require accomplishment of the actions specified in McDonnell Douglas Alert Service Bulletin MD11-24A177 described previously; except as discussed below.

Differences Between Proposed AD and Service Bulletin

Operators should note that Revision 02 of Boeing Alert Service Bulletin MD11-24A178 specifies to repair damaged structure per the Structural Repair Manual (SRM). However, the SRM does not provide procedures for repair of certain structural material. Therefore, this proposed AD would require the repair of damaged structure that is not covered in the SRM to be done per a method approved by us.

Model MD-11F airplanes are not specifically identified by model name in the effectivity of Revision 02 of Boeing Alert Service Bulletin MD11-24A178 or McDonnell Douglas Alert Service Bulletin MD11-24A177. However, those airplanes are identified by manufacturer's fuselage numbers. Therefore, the applicability of this proposed AD specifies both MD-11 and -11F airplanes.

Although Revision 02 of Boeing Alert Service Bulletin MD11-24A178 describes procedures for reporting inspection findings to the airplane manufacturer, this proposed AD would not require that action.

Changes to Requirements of Existing AD/Effect on the Proposed AD

Since the language in Note 3 of AD 2002-14-09 is regulatory in nature, that note has been redesignated as paragraph (b) of this proposed AD.

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 154 airplanes of the affected design in the worldwide fleet listed in Boeing Alert Service Bulletin MD11-24A178. The FAA estimates that 61 airplanes of U.S. registry would be affected by this proposed AD. The cost estimate for those airplanes is as follows:

1. The actions that are currently required by AD 2002-14-09 and retained in this proposed take approximately 3 or 4 work hours per airplane (depending on airplane configuration) to accomplish, at an average labor rate of $65 per work hour. Required parts cost approximately $1,142 per airplane. Based on these figures, the cost impact of the currently required actions on U.S. operators is estimated to be $1,337 or $1,420 per airplane (depending on airplane configuration).

2. For Group 3 and 4 airplanes identified in Boeing Alert Service Bulletin MD11-24A178, the new actions that are proposed in this AD action would take approximately 4 (kit/part number SA11240178-3) or 5 (kit/part number SA11240178-5) work hours per airplane to accomplish, at an average labor rate of $65 per work hour. Required parts would cost approximately $3,031 (kit/part number SA11240178-3) or $617 per airplane (kit/part number SA11240178-5). Based on these figures, the cost impact of these new proposed requirements of this AD on U.S. operators is estimated to be $3,291 (kit/part number SA11240178-3) or $942 (kit/part number SA11240178-5) per airplane.

There are approximately 103 airplanes of the affected design in the worldwide fleet listed in McDonnell Douglas Alert Service Bulletin MD11-24A177. The FAA estimates that 33 airplanes of U.S. registry would be affected by this proposed AD.

For airplanes identified in Boeing Alert Service Bulletin MD11-24A177, the new replacement that is proposed in this AD action would take approximately between 1 and 3 work hours per airplane to accomplish, at an average labor rate of $65 per work hour. Required parts would cost approximately between $114 and $876 per airplane. Based on these figures, the cost impact of the new proposed replacement requirements of this AD on U.S. operators is estimated to be between $5,907 and $35,343, or between $179 and $1,071 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. Manufacturer warranty remedies may also be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12809 (67 FR 47647, July 19, 2002), and by adding a new airworthiness directive (AD), to read as follows:

McDonnell Douglas: Docket 2003-NM-69-AD. Supersedes AD 2002-14-09, Amendment 39-12809.

Applicability: Model MD-11 and -11F airplanes, as listed in Boeing Alert Service Bulletin MD11-24A178, Revision 02, dated March 11, 2003, and McDonnell Douglas Alert Service Bulletin MD11-24A177, dated July 18, 2003; certificated in any category.

Compliance: Required as indicated, unless accomplished previously.

To prevent electrical arcing caused by power feeder cable terminal lugs grounding against terminal strip support brackets, which could result in smoke and fire in the main cabin or avionics compartment, accomplish the following:

Certain Requirements of AD 2002-14-09, Amendment 39-12809

Replacement, Inspection, and Corrective Action if Necessary

(a) For airplanes listed in the effectivity of McDonnell Douglas Alert Service Bulletin MD11-24A178, Revision 01, dated December 17, 2001: Within 18 months after August 23, 2002 (the effective date AD 2002-14-09, amendment 39-12809), do the actions specified in paragraphs (a)(1) and (a)(2) of this AD per the service bulletin.

(1) Replace the applicable terminal strips in the avionics compartment with new terminal strips (including inspecting wires for damage, repairing any damaged wire, and removing the nameplate); and

(2) Perform a general visual inspection to detect arcing damage of the surrounding structure of the terminal strips and electrical cables in the avionics compartment. If any damage is detected, before further flight, repair or replace any damaged component with a new component, per the service bulletin; except if the type of structural material of the surrounding structure that has been affected is not covered in the Structural Repair Manual, repair per a method approved by the Manager, Los Angeles Aircraft Certification Office (ACO), FAA.

Note 1: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(b) Accomplishment of the replacement, inspection, and corrective action, before the effective date of this AD, per McDonnell Douglas Alert Service Bulletin MD11-24A178, dated May 14, 2001, is considered acceptable for compliance with the applicable actions specified in paragraph (a) of this AD.

New Requirements of This AD

Replacement, Inspection, and Corrective Action if Necessary

(c) For Groups 3 and 4 airplanes listed in the effectivity of Boeing Alert Service Bulletin MD11-24A178, Revision 02, dated March 11, 2003: Within 18 months after the effective date of this AD, do the actions specified in paragraphs (c)(1) and (c)(2) of this AD per the Accomplishment Instructions of the service bulletin. Although the service bulletin specifies to report inspection findings to the airplane manufacturer, this AD does not include such a requirement.

(1) Replace the applicable terminal strips in the avionics compartment with new terminal strips (including inspecting wires for damage, repairing any damaged wire, and removing the nameplate); and

(2) Perform a general visual inspection to detect arcing damage of the surrounding structure of the terminal strips and electrical cables in the avionics compartment. If any damage is detected, before further flight, repair or replace any damaged component with a new component, per the service bulletin; except if the type of structural material of the surrounding structure that has been affected is not covered in the Structural Repair Manual, repair per a method approved by the Manager, Los Angeles ACO, FAA.

(d) For airplanes listed in McDonnell Douglas Alert Service Bulletin MD11-24A177, dated July 18, 2003: Within 18 months after the effective date of this AD, replace the terminal board for the applicable item numbers in the aft passenger compartment, per the Accomplishment Instructions of the service bulletin.

Note 2: Boeing Service Bulletin Information Notice MD11-24A177 IN 01, dated August 7, 2003, revises service kits numbers specified in paragraph 2.B., “Post-Warranty” of McDonnell Douglas Alert Service Bulletin MD11-24A177, dated July 18, 2003.

Alternative Methods of Compliance

(e)(1) In accordance with 14 CFR 39.19, the Manager, Los Angeles ACO, FAA, is authorized to approve alternative methods of compliance for this AD.

(2) Alternative methods of compliance, approved previously per AD 2002-14-09, amendment 39-12809, are approved as alternative methods of compliance with paragraph (a) of this AD.

Issued in Renton, Washington, on May 18, 2004.
Kevin M. Mullin,
Acting Manager, Transport Airplane Directorate, Aircraft Certification Service.

[FR Doc. 04-11960 Filed 5-26-04; 8:45 am]

BILLING CODE 4910-13-P